DEPARTMENT OF COMMERCE

National Oceanic and Atmospheric Administration

[I.D. 031902F]

Proposed Information Collection; Comment Request; 2002 Coastal Resource Management Customer Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before May 24, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Tom Fish at NOAA Coastal Services Center, (843) 740-1271 or Tom.Fish@noaa.gov.

SUPPLEMENTARY INFORMATION:

I. Abstract

This survey will be used by the NOAA Coastal Services Center to obtain information from our customers about their natural resource management issues, their information needs, and their technological capabilities. The respondents will be from the coastal natural resource management community. The information will be used to make quality improvements to the Center’s products and services.

II. Method of Collection

A paper survey will be used, but a password-protected Web version of the survey will also be available.

III. Data

OMB Number: None.

Form Number: None.

Type of Review: Regular submission.

Affected Public: State, Local, or Tribal government (state natural resource management agencies); not-for-profit institutions (Sea Grant programs).

Estimated Number of Respondents: 700.

Estimated Time Per Response: 30 minutes.

Estimated Total Annual Burden Hours: 350 hours.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 18, 2002.
Madeleine Clayton,
Departmental Paperwork Clearance Officer, Office of the Chief Information Officer.

[FR Doc. 02-7130 Filed 3-22-02; 8:45 am]

BILLING CODE 3510-08-S